DEPARTMENT OF TRANSPORTATION

Federal Aviation Administration

14 CFR Part 39

[Docket No. FAA-2012-0725; Directorate Identifier 2011-NM-207-AD]

RIN 2120-AA64

Airworthiness Directives; Bombardier, Inc.

AGENCY: Federal Aviation Administration (FAA), DOT.

ACTION: Notice of proposed rulemaking (NPRM).

SUMMARY: We propose to adopt a new airworthiness directive (AD) for certain Bombardier, Inc. Model CL-600-1A11 (CL-600), CL-600-2A12 (CL-601), CL-600-2B16 (CL-601-3A, CL-601-3R, & CL-604 Variants) airplanes. This proposed AD was prompted by reports of cracking found on the upper and lower web of the engine support beam. This proposed AD would require revising the maintenance program. We are proposing this AD to detect and correct fatigue cracking of the engine support beam, which could result in failure of the engine support beam and affect the structural integrity of the airplane.

DATES: We must receive comments on this proposed AD by September 14, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; email thd.crj@aero.bombardier.com; Internet http://www.bombardier.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Stephen Kowalski, Aerospace Engineer, Airframe and Mechanical Systems Branch, ANE-171, FAA, New York Aircraft Certification Office, 1600 Stewart Avenue, Suite 410, Westbury, New York 11590; telephone (516) 228-7327; fax (516) 794-5531.

SUPPLEMENTARY INFORMATION:

Comments Invited

We invite you to send any written relevant data, views, or arguments about this proposed AD. Send your comments to an address listed under the ADDRESSES section. Include “Docket No. FAA-2012-0725; Directorate Identifier 2011-NM-207-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2011-33, dated August 16, 2011 (referred to after this as “the MCAI”), to correct an unsafe condition for the specified products. The MCAI states:

Cracks on the upper and lower web of the Engine Support Beam (ESB) have been discovered on two (2) Challenger aeroplanes in service. Failure of the ESB could adversely affect the structural integrity of the aeroplane.

A Temporary Revision (TR) has been made to the Time Limits/Maintenance Checks (TLMC) manual to introduce a new Airworthiness Limitations (AWL) task to ensure that fatigue cracking of the ESB is detected and corrected.

This [TCCA] directive mandates the incorporation of the new AWL task.

You may obtain further information by examining the MCAI in the AD docket.

Relevant Service Information

Bombardier, Inc. has issued the following temporary revisions. The actions described in this service information are intended to correct the unsafe condition identified in the MCAI.

• Task 53-10-00-198, Torque Box specified in Canadair Challenger Temporary Revision (TR) 5-151, dated May 31, 2011, to the Canadair Challenger Time Limits/Maintenance Checks Manual, PSP 605 (for Model CL-600-1A11 (CL-600) airplanes).

• Task 53-10-00-198, Engine Support Beam specified in Canadair Challenger TR 5-250, dated May 31, 2011, to the Canadair Challenger Time Limits/Maintenance Checks Manual, PSP 601-5 (for Model CL-600-2A12 (CL-601) airplanes).

• Task 53-10-00-198, Engine Support Beam specified in Canadair Challenger TR 5-261, dated May 31, 2011, to the Canadair Challenger Time Limits/Maintenance Checks Manual, PSP 601A-5 (for Model CL-600-2B16 (CL-601-3A and CL-601-3R Variants) airplanes).

• Task 53-30-00-155, Detailed Inspection of the Engine Support Beam specified in Bombardier Challenger 604 TR 5-2-47, dated May 31, 2011, to the Bombardier Challenger 604 Time Limits/Maintenance Checks Manual (for Model CL-600-2B16 (CL-604 Variants) airplanes).

• Task 53-30-00-155, Detailed Inspection of the Engine Support Beam specified in Bombardier Challenger 605 TR 5-2-9, dated May 31, 2011, to the Bombardier Challenger 605 Time Limits/Maintenance Checks Manual (for Model CL-600-2B16 (CL-604 Variants) airplanes).

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 111 products of U.S. registry. We also estimate that it would take about 1 work-hour per product to comply with the basic requirements of this proposed AD. The average labor rate is $85 per work-hour. Based on these figures, we estimate the cost of the proposed AD on U.S. operators to be $9,435, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2012-0725; Directorate Identifier 2011-NM-207-AD.

(a) Comments Due Date

We must receive comments by September 14, 2012.

(b) Affected ADs

None.

(c) Applicability

(1) This AD applies to the airplane models specified in paragraphs (c)(1)(i), (c)(1)(ii), (c)(1)(iii), and (c)(1)(iv) of this AD, certificated in any category.

(i) Bombardier, Inc. Model CL-600-1A11 (CL-600), serial numbers 1004 through 1085 inclusive.

(ii) Bombardier, Inc. Model CL-600-2A12 (CL-601), serial numbers 3001 through 3066 inclusive.

(iii) Bombardier, Inc. Model CL-600-2B16 (CL-601-3A and CL-601-3R Variants), serial numbers 5001 through 5194 inclusive.

(iv) Bombardier, Inc. Model CL-600-2B16 (CL-604 Variants), serial numbers 5301 through 5665 inclusive, and 5701 and subsequent.

(2) This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued damage tolerance of the affected structure. The FAA has provided guidance for this determination in FAA Advisory Circular (AC) 25.1529-1A, dated November 20, 2007 (http://rgl/Regulatory_and_Guidance_Library/rgAdvisoryCircular.nsf/0/E4111B5537E0B345862573B0006FA23B?OpenDocument).

(d) Subject

Air Transport Association (ATA) of America Code 05, Periodic Inspections.

(e) Reason

This AD was prompted by reports of cracking found on the upper and lower web of the engine support beam. We are issuing this AD to detect and correct fatigue cracking of the engine support beam, which could result in failure of the engine support beam and affect the structural integrity of the airplane.

(f) Compliance

You are responsible for having the actions required by this AD performed within the compliance times specified, unless the actions have already been done.

(g) Time Limits/Maintenance Checks (TLMC) Manual Revision

Within 60 days after the effective date of this AD, revise the maintenance program to incorporate the applicable information specified in paragraphs (g)(1) through (g)(4) of this AD.

(1) For Model CL-600-1A11 (CL-600) airplanes: Task 53-10-00-198, Torque Box, specified in Canadair Challenger TR 5-151, dated May 31, 2011, to the TLMC Manual, PSP 605.

(2) For Model CL-600-2A12 (CL-601 Variant) airplanes: Task 53-10-00-198, Engine Support Beam, specified in Canadair Challenger TR 5-250, dated May 31, 2011, to the TLMC Manual, PSP 601-5.

(3) For Model CL-600-2B16 (CL-601-3A and CL-601-3B Variant) airplanes: Task 53-10-00-198, Engine Support Beam, specified in Canadair Challenger TR 5-261, dated May 31, 2011, to the TLMC Manual, PSP 601A-5.

(4) For Model CL-600-2B16 (CL-604 Variant) airplanes: Task 53-30-00-155, Detailed Inspection of the Engine Support Beam, specified in Bombardier Challenger 604 TR 5-2-47, dated May 31, 2011, to the Bombardier Challenger 604 TLMC Manual; or Task 53-30-00-155, Detailed Inspection of the Engine Support Beam, specified in Bombardier Challenger 605 TR 5-2-9, dated May 31, 2011, to the Bombardier Challenger 605 TLMC Manual.

Note 1 to paragraph (g) of this AD: The maintenance program revision required by paragraph (g) of this AD may be done by inserting a copy of Bombardier Temporary Revision (TR) 5-151, TR 5-250, TR 5-261, and TR 5-2-47 or TR 5-2-9, all dated May 31, 2011, into the applicable TLMC manual. When the TR has been included in general revisions of the TLMC manual, the general revisions may be inserted in the TLMC manual, provided the relevant information in the general revision is identical to that in the applicable TR specified in paragraphs (g)(1) through (g)(4) of this AD.

(h) Initial Compliance Times for Inspections

The initial compliance time for the inspections specified in the temporary revisions specified in paragraphs (g)(1) through (g)(4) of this AD, is before the accumulation of 7,800 total flight cycles, or within 12 months after the effective date of this AD, whichever occurs later.

(i) No Alternative Actions or Intervals

After accomplishing the revision required by paragraph (g) of this AD, no alternative actions (e.g., inspections) or intervals may be used unless the actions or intervals are approved as an alternative method of compliance (AMOC) in accordance with the procedures specified in paragraph (j) of this AD.

(j) Other FAA AD Provisions

The following provisions also apply to this AD:

(1) Alternative Methods of Compliance (AMOCs): The Manager, New York Aircraft Certification Office, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI Canadian Airworthiness Directive CF-2011-33, dated August 16, 2011, and the temporary revisions specified in paragraphs (g)(1) through (g)(4) of this AD, for related information.

(2) For service information identified in this AD, contact Bombardier, Inc., 400 Côte-Vertu Road West, Dorval, Québec H4S 1Y9, Canada; telephone 514-855-5000; fax 514-855-7401; email thd.crj@aero.bombardier.com; Internet http://www.bombardier.com. You may review copies of the referenced service information at the FAA, Transport Airplane Directorate, 1601 Lind Avenue SW., Renton, WA. For information on the availability of this material at the FAA, call 425-227-1221.

Issued in Renton, Washington, on July 20, 2012.
Kalene C. Yanamura,
Acting Manager, Transport Airplane Directorate, Aircraft Certification Service.

[FR Doc. 2012-18585 Filed 7-30-12; 8:45 am]

BILLING CODE 4910-13-P